DEPARTMENT OF HEALTH AND HUMAN SERVICES

Office of Inspector General

Program Exclusions: June 2000

AGENCY: Office of Inspector General, HHS.

ACTION: Notice of program exclusions.

During the month of June 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS:
ADAMS, JENINE M, KINGMAN, AZ | 07/20/2000
AEROMEDICAL SERVICES, INTER, LAS VEGAS, NV | 07/20/2000
AGAZARIAN, MARTIROS, LOS ANGELES, CA | 07/20/2000
AVETISSIAN, ASHOT ART, RESEDA, CA | 07/20/2000
BAKER, VANCE, LEWISBURG, PA | 07/20/2000
BAKER, ROSIE, FT WORTH, TX | 07/20/2000
BARSEGUYAN, ARTAK, LONG BEACH, CA | 07/20/2000
BURTON, EDWINA L, MEMPHIS, TN | 07/20/2000
CABRAL, NARCISO, DOMINICAN REPUBLIC | 07/20/2000
CAMBRA, JOSEFA, MIAMI, FL | 07/20/2000
CARBAJAL, LOURDES, EAGLE PASS, TX | 07/20/2000
CHERKEZIAN, WILLIAM A, LONG BEACH, CA | 12/20/1999
CHURCHILL, SHANE K, W DES MOINES, IA | 07/20/2000
CHURCHILL, CURTIS J, DES MOINES, IA | 07/20/2000
CORNEJO, MARTHA, NEW HYDE PARK, NY | 07/20/2000
DAUB, KENNETH, ROCKFORD, IL | 07/20/2000
DELEON, ANGELO M, BAYSIDE, NY | 07/20/2000
DICKENSON, W DAVID, WICHITA FALLS, TX | 07/20/2000
DUNCAN, ELENA S, OLYMPIA FIELDS, IL | 07/20/2000
ENGLAND, GRANT D, COFFEYVILLE, KS | 07/20/2000
ESCUDERO, PEDRO LUIS JR, PEMBROKE PINES, FL | 07/20/2000
ESCUDERO, DAVID, MIAMI, FL | 06/22/2000
ESCUDERO, PEDRO L SR, MIAMI, FL | 07/20/2000
FELTON, VERNELL, ALBION, NY | 07/20/2000
FLAGLER-KNIGHT, JENNIFER L, SARASOTA, FL | 07/20/2000
FOCUS COUNSELING CENTER, INC, MEDIA, PA | 07/20/2000
FRANK, VLADISLAVA, BEDFORD HILLS, NY | 07/20/2000
FRAZIER, MARK R, OMAHA, NE | 12/21/1999
FREITAG, GEORGIA R, WILMINGTON, IL | 07/20/2000
GAYTAN, MARIA THERESA, EAGLE PASS, TX | 07/20/2000
GOMEZ, MIRIAM G, MIAMI, FL | 07/20/2000
GONZALEZ, JOSE D, PHILADELPHIA, PA | 07/20/2000
GREEN, SAMUEL M, MORGANTOWN, WV | 07/20/2000
GRIGORYANTS, ANZHELA, GLENDALE, CA | 01/31/2000
HIGH, RONALD, RANDALLSTOWN, MD | 07/20/2000
JENKINS, SHANNON LEE, SHERIDAN, AR | 07/20/2000
JOHNSON, FLOYD E, CAIRO, IL | 07/20/2000
KNIGHT, RICHARD DONALD II, SARASOTA, FL | 07/20/2000
MOUN, KHEMARA, PROVIDENCE, RI | 07/20/2000
NICHOLAS, BRIAN JOSEPH, COWEN, WV | 07/20/2000
NIETO, MARTA LAZARA, MIAMI, FL | 07/20/2000
OVASAPYAN, RAZMIK, GLENDALE, CA | 07/20/2000
PEREZ, CLARA ARYAN, MIAMI, FL | 07/20/2000
PEREZ, GENEVA HENRIETTA, PORTLAND, OR | 07/20/2000
PERRY, SHABAZZ, BROOKLYN, NY | 07/20/2000
PIERCE, GREGORY H, PHILADELPHIA, PA | 07/20/2000
POH-EIKOM, VIKKI, PAULSBORO, NJ | 07/20/2000
QUINONES, MAYRA M, MIAMI LAKES, FL | 07/20/2000
RAWANA, VIVEKANAND, GANADO, AZ | 07/20/2000
ROBERTS, ANNETTE, YULEE, FL | 07/20/2000
ROBERTS, CLARENCE ROCHELLE, ENID, OK | 07/20/2000
ROGERS, CHARLES PAUL, LEWISBURG, GA | 07/20/2000
S & A RESPIRATORY CARE, INC, LOUISVILLE, KY | 07/20/2000
SHEA, DAVID, LAS VEGAS, NV | 07/20/2000
SPERRAZZA, CONNIE E, MESA, AZ | 07/20/2000
STITH, TERRI, ROCHESTER, NY | 07/20/2000
TALYANSKY, OLEG, BROOKLYN, NY | 07/20/2000
TAYLOR, MARIE ANTOINETTE, QUEENS VILLAGE, NY | 07/20/2000
VALLE, PEDRO, HIALEAH, FL | 07/20/2000
WEAR, LAURIE A, MEDFORD, OR | 07/20/2000
WILLIFORD WILSON, ALBERTA JOYCE, BAY CITY, TX | 07/20/2000
WORSHAM, CHRISTINA J, MOODY, MO | 07/20/2000
FELONY CONVICTION FOR HEALTH CARE FRAUD:
EVERGATES, SANDRA J, CLINTON, MA | 07/20/2000
RYALS, CHANDRA L, TOWNSEND, GA | 07/20/2000
SMITH FONTENOT, TONYA, JENKS, OK | 07/20/2000
TAULMAN, CHRISTINE, LOVELAND, CO | 07/20/2000
FELONY CONTROL SUBSTANCE CONVICTION:
CLAAR, ELIZABETH A, WARREN, OH | 07/20/2000
COLEMAN, THOMAS CLINTON JR, DUBLIN, GA | 07/20/2000
FEENEY, MARY ANN, HAZLETON, PA | 07/20/2000
HODGES, MELANIE CLARK, EVINGTON, VA | 07/20/2000
KIRSTEIN, KENNETH F, MEDINA, OH | 07/20/2000
OSER, CATHERINE ANN, LONG BEACH, CA | 07/20/2000
PENNINGTON, FRANK R, JACKSON, TN | 07/20/2000
REED, REGINA LEA, SILVERTON, TX | 07/20/2000
YERGER, KAREN A, MIDDLEBURG, PA | 07/20/2000
PATIENT ABUSE/NEGLECT CONVICTIONS:
ALLEN, CHERMAINE JOAN, LAUREL, MS | 07/20/2000
ALLGOOD, JENICE C, STARKVILLE, MS | 07/20/2000
AYAP, EUSTALIA GUTIERREZ, SAN JOSE, CA | 07/20/2000
BATOFF, STEVEN B, CAMP HILL, PA | 07/20/2000
CONROY, KERRY ANNE, DENVER, CO | 07/20/2000
DELEON, BARBARA M, AMSTERDAM, NY | 07/20/2000
EWART, CAROL, BRONX, NY | 07/20/2000
FACKLER, CRYSTAL L, GARETTSVILLE, OH | 07/20/2000
FELDER, GLORIA, NEW YORK, NY | 07/20/2000
GAMMILL, DEMETRA KAY, NEW ORLEANS, LA | 07/20/2000
GRAEFF, WILLIS SHERWOOD III, WINFIELD, KS | 07/20/2000
JACKSON, ROSALINDA LUZ, SAN RAMON, CA | 07/20/2000
JONES, CHARLES EDFORD, BETHEL SPRINGS, TN | 07/20/2000
KANE, BARBARA S, LOCKPORT, NY | 07/20/2000
KIRK, KATHLEEN, SAYVILLE, NY | 07/20/2000
LEVELS, KATHERINE N, DELHI, LA | 07/20/2000
MALACHOWSKI, DEBBIE, HAMBURG, NY | 07/20/2000
MAYS, JOHN LEE, SACRAMENTO, CA | 07/20/2000
MOORE, SHANIKA, ROCHESTER, NY | 07/20/2000
MORROW, THOMAS, GOWANDA, NY | 07/20/2000
MULLINIKS, LAURIE JEAN, ADA, OK | 07/20/2000
RIDDLE, SCOTT WESLEY, GREENWOOD, AR | 07/20/2000
ROLDAN, ESTRELLITA MONTOYA, WALNUT CREEK, CA | 07/20/2000
SMIGELSKI, SALLY A, EUCLID, OH | 07/20/2000
STEVENSON, STONYA R, DAYTON, OH | 07/20/2000
TIBO, EDNA KIKO, POMPANO BCH, FL | 07/20/2000
WICKLINE, ANGELINE M, NEWARK, OH | 07/20/2000
CONVICTION FOR HEALTH CARE FRAUD:
CHHEDA, JAYANTILAL K, COPIAGUE, NY | 07/20/2000
ROYAL, ANNETTE J, NEW ORLEANS, LA | 07/20/2000
CONTROLLED SUBSTANCE CONVICTIONS:
FOX, JOHN PAUL, HARPER WOODS, MI | 07/20/2000
LICENSE REVOCATION/SUSPENSION/SURRENDERED:
ACHEY, LORI B, ANNVILLE, PA | 07/20/2000
ALSTON-MARSHALL, KELLY N, CHICAGO HGTS, IL | 07/20/2000
AMABA, SAMANTHA D, MIAMI, FL | 07/20/2000
AUSTIN, ROBIN DAWN, CASTAIC, CA | 07/20/2000
AYCOCK, JOSEPH P, MEMPHIS, TN | 07/20/2000
BECKWITH, JUDY LAVERNE, HAYWARD, CA | 07/20/2000
BELT, LATOYA T, CHICAGO, IL | 07/20/2000
BERKLEY, WANDA G, HALIFAX, VA | 07/20/2000
BIONDI, GIOVANNI, SCARSDALE, NY | 07/20/2000
BISANTI, EMILIO, SPRINGFIELD, MA | 07/20/2000
BLASCZIENSKI, DEBRA, NEW ORLEANS, LA | 07/20/2000
BLEVINS, BRENT L, COTTONTOWN, TN | 07/20/2000
BOARD, ELIZABETH MAUDE, SMYRNA, GA | 07/20/2000
BOBBITT, BRENDA E, BLACKSTONE, VA | 07/20/2000
BOHANAN, TERRI W, SEYMOUR, TN | 07/20/2000
BRADLEY, REGINALD DWAYNE, RICHMOND, VA | 07/20/2000
BRASSFIELD, DENNIS WAYNE, DUMAS, TX | 07/20/2000
BRATZ, KENNETH M, INGLESIDE, IL | 07/20/2000
BRENNAN, KATHERINE, LEE, NH | 07/20/2000
BROWN, FRANCINE B, CORBIN, KY | 07/20/2000
BROWN, RICHARD C, ORO VALLEY, AZ | 07/20/2000
BUCKLER, THOMAS B, LEBANON, TN | 07/20/2000
CALLAHAN, PEGGY IMOJEAN, MODESTO, CA | 07/20/2000
CALLOWAY, NINA A, CHICAGO, IL | 07/20/2000
CAMPBELL, SHEILA D, ROANOKE, VA | 07/20/2000
CANTERO, WILLIAM MENDOZA, LOS ANGELES, CA | 07/20/2000
CARROLL, SANDRA B, ROGERSVILLE, TN | 07/20/2000
CHAGNON, KENNETH P, MILTON, VT | 07/20/2000
CHATMAN, SUSAN E, RINGGOLD, GA | 07/20/2000
CHERNOFF, BETTYE F, WINCHESTER, TN | 07/20/2000
CLARK, GIITA, MILTON, VT | 07/20/2000
COLE, WILSON M, SAN DIEGO, CA | 07/20/2000
COLLINS, PATRICK SHAWN, S BYRON, NY | 07/20/2000
CONN, DENISE, VIRGINIA BEACH, VA | 07/20/2000
COOK, JAY D, ANDERSON, CA | 07/20/2000
COOPER, ROXANNE MARIE, VALRICO, FL | 07/20/2000
CORTELYOU, MARIE, PECOS, NM | 07/20/2000
COVINGTON, NANCY, CHICAGO, IL | 07/20/2000
CREIGHTON, WILLIAM T, NORTHBOROUGH, MA | 07/20/2000
CROSBY, JAMES ERNEST, PANAMA CITY BCH, FL | 07/20/2000
DANIEL, JAMES LYNN, ORMOND BEACH, FL | 07/20/2000
DAVID, LUC CLAUDE, PITTSFORD, NY | 07/20/2000
DAVIS, CASSUANDRA PORTER, HEMET, CA | 07/20/2000
DELAINI, JACQUELIN L, WICKHAVEN, PA | 07/20/2000
DEWITT, MARIAN LOUISE, GALESBURG, IL | 07/20/2000
DIBENEDITTO, JOSEPH P, BOWLING GREEN, KY | 07/20/2000
DIXON, DONN HOWELL, AUSTIN, TX | 07/20/2000
DONOGHUE, WILLIAM JOSEPH, CHICAGO, IL | 07/20/2000
ELUL, RAFAEL, SAN FRANCISCO, CA | 07/20/2000
ENGLE, DEBORAH J, BERWYN, IL | 07/20/2000
FANTONE, ROSALIND HELENE, ANN ARBOR, MI | 07/20/2000
FELDMAN, RICHARD W, NASHVILLE, TN | 07/20/2000
FINCHAM, IDA K, CULPEPER, VA | 07/20/2000
FITCH, KIMBERLY L, CHICAGO, IL | 07/20/2000
FLEMING, DEIRDRE LYNNE REESE, FLAGSTAFF, AZ | 07/20/2000
FLETCHER, CHRISTINE, SHAW, MS | 07/20/2000
FORESTER, MARGARET G, JOHNSON CITY, TN | 07/20/2000
FREEBURGER, MICHAEL E, MAYFIELD, KY | 07/20/2000
FUSSELL-THACKER, JACQUELINE MA, WOODLAND, CA | 07/20/2000
GABBARD, SARAH D, HADDIX, KY | 07/20/2000
GALVAN, KAREN MISCHELL, HARPER WOODS, MI | 07/20/2000
GATES, DEBORAH, PITTSBURGH, PA | 07/20/2000
GHIORGHIS, EDEN H, SPRINGFIELD, IL | 07/20/2000
GIANTURCO, MICHAEL JAMES, EGGERTSVILLE, NY | 07/20/2000
GIETL, JOSEPH P, BUFFALO, IL | 07/20/2000
GILBERT, JACQUELYN L, CHELSEA, MI | 07/20/2000
GILBERT, CYNTHIA M, SPRINGFIELD, VA | 07/20/2000
GO, JAIME YU, BATH, NY | 07/20/2000
GOLEM, JUDITH ELAINE, CANTON TWP, MI | 07/20/2000
GONZALEZ, LORENA, CHICAGO, IL | 07/20/2000
GRANGER, ELIZABETH DIANNE, HOOVER, AL | 07/20/2000
GUNN, JAMES PATRICK, SANTA MARIA, CA | 07/20/2000
HANDSFIELD, RODNEY G, LAS VEGAS, NV | 07/20/2000
HARRIS, JANICE, HENDERSONVILLE, TN | 07/20/2000
HARRISON, HUBERT, KNOXVILLE, TN | 07/20/2000
HENRY, JERRY C, ACKERMAN, MS | 07/20/2000
HILL, ROBERT S, TIPPECANOE, IN | 07/20/2000
HILSE, KARL F JR, LAWRENCE, MA | 07/20/2000
HOFFMAN, JAMES DAVID, ARLINGTON, VA | 07/20/2000
HOWER, DENISE M, THOMPSONTOWN, PA | 07/20/2000
HUGENTOBLER, SHELLI, EPHRAIM, UT | 07/20/2000
JAMES, JEFFERY CRAIG, LATHROP, CA | 07/20/2000
JOHNSON, DIANE L, PITTSBURGH, PA | 07/20/2000
JOHNSON, CINDY KING, JACKSONVILLE, FL | 07/20/2000
KAUFMAN, MARK CHARLES, VALLEY STREAM, NY | 07/20/2000
KELLEY, EDWARD M, AUBURN, ME | 07/20/2000
KLINGBEIL, ROBERT T, MARIETTA, GA | 07/20/2000
KOCH, KATHRYN L, MEBANE, NC | 07/20/2000
LAROSE, CHRISTINE L, WATERTOWN, MA | 07/20/2000
LEAMON, YOLANDA G, BATTLE CREEK, MI | 07/20/2000
LISKANICH, MICHAEL J, SAN DIMAS, CA | 07/20/2000
LONG, BRENDA PENNINGTON, DAYTON, OH | 07/20/2000
LONG, DAVID E, EL CENTRO, CA | 07/20/2000
LONGAKER, WILLIAM D, BROOKTONDALE, NY | 07/20/2000
LONGSWORTH, CYNTHIA MARIE, MIAMI, FL | 07/20/2000
LOUIS, NATACHA, NYACK, NY | 07/20/2000
LUCAS, DARRELL FREDERICK, CLEARLAKE, CA | 07/20/2000
LUNAU, SUE LEMASTERS, MOUNDSVILLE, WV | 07/20/2000
LUTSCH, PATRICIA F, LOUISVILLE, KY | 07/20/2000
MAGGARD, CHRISTOPHER, HERMITAGE, TN | 07/20/2000
MARBUTT, CHRISTOPHER JOE, LAFAYETTE, AL | 07/20/2000
MARTINEZ, MARY J, LANSING, IL | 07/20/2000
MCINTIRE, VICTOR K, CORINTH, MS | 07/20/2000
MITCHELL, JERRY III, DADE CITY, FL | 07/20/2000
MONEY, MARY, CAPON BRIDGE, WV | 07/20/2000
MONICK, PHYLLIS H, BENNINGTON, VT | 07/20/2000
MOORE, VALERIA F, DANVILLE, VA | 07/20/2000
MORAN, JEFFREY, SAN CLEMENTE, CA | 07/20/2000
MORTIMER, ANTHONY EDWARD, ANTIOCH, TN | 07/20/2000
MOSS, JODI M, FORT WORTH, TX | 07/20/2000
MUKAI, JANET ELIZABETH, LOS ANGELES, CA | 07/20/2000
OLSON, DAN A, MESA, AZ | 07/20/2000
OTT, JOHN DAVID, FOREST GOVE, OR | 07/20/2000
PARRIS, DELLA M B, PARIS, TN | 07/20/2000
PAUL, BRIAN KEITH, ROYAL OAK, MI | 07/20/2000
PUSSER, CYNTHIA L, REAGAN, TN | 07/20/2000
REESE, JACK D, LIBERAL, KS | 07/20/2000
REICHEK, JODI, E SWANZEY, NH | 07/20/2000
REID, SHAWN WAYNE, SAN GABRIEL, CA | 07/20/2000
REIMERS, WILLIAM NEIL, SAUGUS, CA | 07/20/2000
ROBINSON, MICHELLE N, RICHMOND, VA | 07/20/2000
RODRIGUEZ, SANDRA, PROVIDENCE, RI | 07/20/2000
ROELLCHEN, THOMAS JAY, KALAMAZOO, MI | 07/20/2000
ROSS, NEIL WELBON, BERKELY, CA | 07/20/2000
ROSS, DANIEL JOSEPH, CONCORD, CA | 07/20/2000
RUDDER, ANN S, KNOXVILLE, TN | 07/20/2000
RUEDA, ORLANDO JULIAN, HOLLYWOOD, FL | 07/20/2000
SAAFIR, CONSTANCE D, DURHAM, NC | 07/20/2000
SANTANGELO, ROBIN EILEEN POSEY, CORAL SPRINGS, FL | 07/20/2000
SAXE, MARYANN, ROCHESTER, NY | 07/20/2000
SCHAEFFER, NINA B, NEW YORK | 07/20/2000
SHERWIN, DORIS W, WAVELAND, MS | 07/20/2000
SHULTICE, ROBERT W, BLAIRSTOWN, IA | 07/20/2000
SHUWARGER, COLEMAN, CHATSWORTH, CA | 07/20/2000
SIVAMURTHY, SHETRA, HUNTINGTON STATION, NY | 07/20/2000
SMITH, NOELENE F, ALBANY, NY | 07/20/2000
SMITH, CHRISTOPHER TREMEL, SAN FRANCISCO, CA | 07/20/2000
STALKER, RAYMOND L, LEXINGTON, KY | 07/20/2000
STECKMEYER, PAUL J, HAMBURG, NY | 07/20/2000
STOOTS, MARY H, BRISTOL, TN | 07/20/2000
SUDTELGTE, JERRY, MEDFORD, OR | 07/20/2000
TAYLOR, LEE ANN, LYNDONVILLE, VT | 07/20/2000
TERRY, KEVIN MICHAEL, OAKDALE, CA | 07/20/2000
TESCHKE, GERD C, MELROSE, MA | 07/20/2000
TESTA, RICKI L, BOSTON, MA | 07/20/2000
THOMPSON, BRIAN THOMAS, VANCOUVER, WA | 07/20/2000
THORNTON, JEAN A, LEWISBURG, OH | 07/20/2000
TURCHETTA, BERNARD V JR, N SCITUATE, RI | 07/20/2000
TYNER, SANDRA J, GRANTS PASS, OR | 07/20/2000
VARTULI, JEFFREY A, BRATTLEBORO, VT | 07/20/2000
WEST, LINDA CAROLINE, DORA, AL | 07/20/2000
WHITLEY, CAROLYN L, HOPEWELL, VA | 07/20/2000
WHITLOCK, CLAUDIA S, DANDRIDGE, TN | 07/20/2000
WILDS, LAURA ANN, DALLAS, TX | 07/20/2000
WILLIS, BETH ANNE M, BEEBE PLAIN, VT | 07/20/2000
WILSON, DOYLE CLARENCE JR, HOUSTON, TX | 07/20/2000
WILSON, MARLA A, MILLINGTON, TN | 07/20/2000
WOJTKOWIAK, SANDRA LYNN, E LANSING, MI | 07/20/2000
WOODFIELD, BRENT ELMAN, CHATHAM, MA | 07/20/2000
WURTZ, RICHARD F, PHOENIX, AZ | 07/20/2000
ZELANO, SALVATORE, NEW YORK, NY | 07/20/2000
FEDERAL/STATE EXCLUSION/SUSPENSION:
SILVER LAKE MEDICAL SUPPLY, LOS ANGELES, CA | 07/20/2000
FRAUD/KICKBACKS:
RESNICK, MARK GARY, TAMPA, FL | 01/28/2000
OWNED/CONTROLLED BY CONVICTED EXCLUDED:
A K CHIROPRACTIC CLINIC, HOLLAND, MI | 07/20/2000
ALL CHIROPRACTIC CENTER, STAMFORD, CT | 07/20/2000
CARR CHIROPRACTIC CENTER, MAYVILLE, WI | 07/20/2000
CYNTHIA D GRAY, M D, P C, VANCOUVER, WA | 07/20/2000
EAST COAST MEDICAL GROUP, INC, NEW SMYRNA BEACH, FL | 07/20/2000
JAYMEE J FRIMML, D C, NAMPA, ID | 07/20/2000
LANE P BUNKER, D C, P C, LONGMONT, CO | 07/20/2000
MIGVA MEDICAL CENTER, GROUP, MIAMI, FL | 07/20/2000
MQ PROFESSIONAL SERVICES, INC, MIAMI LAKES, FL | 07/20/2000
MURPHY CHIROPRACTIC, INC, MADISON, WI | 07/20/2000
OASIS EYE CARE, JAMAICA, NY | 07/20/2000
OZARK CHIROPRACTIC CLINIC, P C, OZARK, MO | 07/20/2000
P & M MEDICAL EQUIPMENT, MIAMI, FL | 07/20/2000
RAPID OXIMETRY SERVICES, INC, MIAMI, FL | 07/20/2000
SARTZ CHIROPRACTIC, CHANDLER, AZ | 07/20/2000
VECTOR HEALTH CARE CONSULTANTS, NEW PORT RICHEY, FL | 07/20/2000
VICKERS CHIROPRACTIC CENTER, HOLLAND, MI | 07/20/2000
DEFAULT ON HEAL LOAN:
AVERA, GEORGE EARLIN, DENTON, TX | 07/20/2000
BENNETT, HUGH M, HONOLULU, HI | 07/20/2000
BENSON, DAVID M, SAN FRANCISCO, CA | 07/20/2000
BISHOP, LARRY C, EVANSVILLE, IN | 07/20/2000
BUGG, JAMES H, OKLAHOMA CITY, OK | 07/20/2000
CARTER, BENJAMIN M JR, GAINSEVILLE, GA | 07/20/2000
DEAN, RANDY M, INVERNESS, FL | 07/20/2000
DIMATTEO, LUCA, SIMSBURY, CT | 07/20/2000
HOUGH, REGINIO T JR, LANCASTER, CA | 07/20/2000
HUNT, EDWARD, JACKSON, MS | 07/20/2000
JOHNSON, STEVEN R, CAMDEN, TN | 07/20/2000
MACKUSE, DONNA MARIE, SOMERS POINT, NJ | 07/20/2000
MADDEN, PATRICK J, QUINCY, MA | 07/20/2000
MAYER, FREDERICK G, AVON BY THE SEA, NJ | 07/20/2000
MITCHELL, WARREN A, ANCHORAGE, AK | 07/20/2000
NORDNESS, PAUL J, CHARLOTTE, NC | 07/20/2000
NUTTER, BARRY J, HONOLULU, HI | 07/20/2000
OBATA, NWAEBUNI M, RIVERDALE, GA | 07/20/2000
PAUNOVIC, SUSAN J, HOPEWELL JUNCTION, NY | 07/20/2000
PREVEDELLO, BARBARA A, TOPEKA, KS | 07/20/2000
RIVEROY, ISAAC, CHINO HILLS, CA | 07/20/2000
SAINTLOUIS, JOSEPHUS H, BOSTON, MA | 05/25/2000
SELLITTO, ROCCO V, BROOKLYN, NY | 07/20/2000
SMITH, STACEY D, MALIBU, CA | 07/20/2000
SPATAFORA, JOHN A JR, GRAN JUNCTION, CO | 07/20/2000
STAUFFER, KELLY J, MOUNTAIN VIEW, CA | 07/20/2000
STEFANIC, RICHARD, TORREON, COAH MEXICO, | 07/20/2000
STRAUGHAN, CAROL J, MINNEAPOLIS, MN | 07/20/2000
VESSEY, NED S, ARCADIA, CA | 07/20/2000
WAKEFIELD, ELIZABETH A, MCGROGER, MN | 05/25/2000
WALL, MICHAEL J, SANDY, UT | 07/20/2000
ZITARELLI, JOSEPH A, HAZLETON, PA | 07/20/2000
OWNERS OF EXCLUDED ENTITIES:
DECKER, ANGELA, LOUISVILLE, KY | 07/20/2000
JACKSON, SHARON, LOUISVILLE, KY | 07/20/2000

Dated: July 11, 2000.
Kathi Petrowski,
Acting Director, Health Care Administrative Sanctions, Office of Inspector General.

[FR Doc. 00-18380 Filed 7-19-00; 8:45 am]

BILLING CODE 4150-04-P